DEPARTMENT OF TRANSPORTATION

Federal Aviation Administration

14 CFR Part 39

[Docket No. FAA-2013-0302; Directorate Identifier 2013-NM-019-AD; Amendment 39-17503; AD 2013-13-15]

RIN 2120-AA64

Airworthiness Directives; the Boeing Company Airplanes

AGENCY: Federal Aviation Administration (FAA), DOT.

ACTION: Final rule.

SUMMARY: We are superseding airworthiness directive (AD) 87-02-07, which applied to all The Boeing Company Model 737-100 and -200 series airplanes. AD 87-02-07 required replacement of certain underwing fuel tank access covers with stronger, fire-resistant covers. This new AD also requires inspecting fuel tank access doors to determine that impact-resistant access doors are installed in the correct locations, inspecting application of stencils and index markers of impact-resistant access doors, doing corrective actions if necessary, revising the maintenance program, and adding airplanes to the applicability. This AD was prompted by reports of standard access doors installed where impact-resistant access doors are required, and reports of impact-resistant doors without stencils. We are issuing this AD to prevent foreign object penetration of the wing tank, which could lead to a fuel leak near ignition sources (engine, hot brakes), consequently leading to a fuel-fed fire.

DATES: This AD is effective August 20, 2013.

The Director of the Federal Register approved the incorporation by reference of a certain publication listed in the AD as of August 20, 2013.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Suzanne Lucier, Aerospace Engineer, Propulsion Branch, ANM-140S, FAA, Seattle Aircraft Certification Office, 1601 Lind Avenue SW., Renton, Washington 98057-3356; phone: 425-917-6438; fax: 425-917-6590; email: suzanne.lucier@faa.gov.

SUPPLEMENTARY INFORMATION:

Discussion

We issued a notice of proposed rulemaking (NPRM) to amend 14 CFR part 39 to supersede AD 87-02-07, Amendment 39-5506 (Docket No. 86-NM-175-AD; 52 FR 518, January 7, 1987), (“AD 87-02-07”). AD 87-02-07 applied to the specified products. The NPRM published in the Federal Register on April 10, 2013 (78 FR 21279). The NPRM proposed to continue to require replacement of certain underwing fuel tank access covers with stronger, fire-resistant covers. The NPRM also proposed to require inspecting fuel tank access doors to determine that impact-resistant access doors are installed in the correct locations, inspecting application of stencils and index markers of impact-resistant access doors, doing corrective actions if necessary, revising the maintenance program, and adding airplanes to the applicability.

Comments

We gave the public the opportunity to participate in developing this AD. We have considered the comment received.

Concurrence With NPRM (78 FR 21279, April 10, 2013)

Boeing stated that it concurs with the content of the NPRM (78 FR 21279, April 10, 2013).

Conclusion

We reviewed the relevant data, considered the comment received, and determined that air safety and the public interest require adopting this AD as proposed—except for minor editorial changes. We have determined that these minor changes:

• Are consistent with the intent that was proposed in the NPRM (78 FR 21279, April 10, 2013) for correcting the unsafe condition; and

• Do not add any additional burden upon the public than was already proposed in the NPRM (78 FR 21279, April 10, 2013).

Costs of Compliance

We estimate that this AD affects 128 airplanes of U.S. registry.

We estimate the following costs to comply with this AD:

Estimated Costs
Action | Labor cost | Parts cost | Cost per product | Cost on U.S. operators
Inspect, replace, and apply stencil and index marker | 8 work-hours × $85 per hour = $680 | $0 | $680 | $87,040
Revise maintenance program | 1 work-hour × $85 per hour = $85 | 0 | 85 | 10,880

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 87-02-07, Amendment 39-5506 (Docket No. 86-NM-175-AD; 52 FR 518, January 7, 1987), and adding the following new AD:

2013-13-15 The Boeing Company: Amendment 39-17503; Docket No. FAA-2013-0302; Directorate Identifier 2013-NM-019-AD.

(a) Effective Date

This AD is effective August 20, 2013.

(b) Affected ADs

This AD supersedes AD 87-02-07, Amendment 39-5506 (Docket No. 86-NM-175-AD; 52 FR 518, January 7, 1987).

(c) Applicability

This AD applies to The Boeing Company Model 737-100, -200, -200C, and -300 series airplanes, certified in any category, as identified in Boeing Service Bulletin 737-28-1286, dated January 10, 2012.

(d) Subject

Joint Aircraft System Component (JASC)/Air Transport Association (ATA) of America Code 28, Fuel.

(e) Unsafe Condition

This AD was prompted by reports of standard access doors installed where impact-resistant access doors are required, and reports of impact-resistant doors without stencils. We are issuing this AD to prevent foreign object penetration of the wing tank, which could lead to a fuel leak near ignition sources (engine, hot brakes), consequently leading to a fuel-fed fire.

(f) Compliance

Comply with this AD within the compliance times specified, unless already done.

(g) Inspection and Corrective Actions

Within 72 months after the effective date of this AD: Do a general visual inspection of the left-wing and right-wing fuel tank access doors to determine that impact-resistant access doors are installed in the correct locations, and an inspection for proper application of stencils and index markers of impact-resistant access doors; and do all applicable corrective actions; in accordance with the Accomplishment Instructions of Boeing Service Bulletin 737-28-1286, dated January 10, 2012. Do all applicable corrective actions before further flight.

(h) Maintenance Program Revision

Within 60 days after the effective date of this AD, revise the maintenance program to incorporate Airworthiness Limitation (AWL) 57-AWL-01, Impact-Resistant Fuel Access Doors, as specified in Section C., Airworthiness Limitations (AWLs)—Fuel Systems, of the Boeing 737-100/200/200C/300/400/500 Airworthiness Limitations (AWLs) and Certification Maintenance Requirements (CMRs), Document D6-38278-CMR, Revision August 2012.

(i) No Alternative Critical Design Configuration Control Limitations (CDCCLs)

After accomplishing the revision required by paragraph (h) of this AD, no alternative CDCCLs may be used unless the CDCCLs are approved as an alternative method of compliance (AMOC) in accordance with the procedures specified in paragraph (j) of this AD.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane and the approval must specifically refer to this AD.

(k) Related Information

For more information about this AD, contact Suzanne Lucier, Aerospace Engineer, Propulsion Branch, ANM-140S, FAA, Seattle Aircraft Certification Office, 1601 Lind Avenue SW., Renton, Washington 98057-3356; phone: 425-917-6438; fax: 425-917-6590; email: suzanne.lucier@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin 737-28-1286, dated January 10, 2012.

(ii) Boeing 737-100/200/200C/300/400/500 Airworthiness Limitations (AWLs) and Certification Maintenance Requirements (CMRs), Document D6-38278-CMR, Revision August 2012.

(3) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 21, 2013.
Jeffrey E. Duven,
Acting Manager, Transport Airplane Directorate, Aircraft Certification Service.

[FR Doc. 2013-15963 Filed 7-15-13; 8:45 am]

BILLING CODE 4910-13-P